DEPARTMENT OF COMMERCE

International Trade Administration

(A-570-881)

Rescission of Antidumping Duty Administrative Review: Certain Malleable Iron Pipe Fittings From the People's Republic of China

AGENCY: Import Administration, International Trade Administration, Department of Commerce.

SUMMARY: In response to a request by LDR Industries, Inc. and Beijing Sai Lin Ke Hardware Co., Ltd., the U.S. Department of Commerce (the Department) initiated an administrative review of the antidumping duty order on certain malleable iron pipe fittings from the People's Republic of China with respect to Beijing Sai Lin Ke Hardware Co., Ltd. No other interested party requested a review. The period of review is December 1, 2004, through November 30, 2005. On February 13, 2006, LDR Industries, Inc. and Beijing Sai Lin Ke Hardware Co., Ltd. withdrew their request for an administrative review of Beijing Sai Lin Ke Hardware Co., Ltd. Accordingly, the Department is now rescinding the administrative review of Beijing Sai Lin Ke Hardware Co., Ltd.

EFFECTIVE DATE: March 22, 2006.

FOR FURTHER INFORMATION CONTACT: Steve Bezirganian, AD/CVD Operations, Office 7, Import Administration, U.S. Department of Commerce, 14th Street and Constitution Avenue, NW, Washington, DC 20230; telephone: (202) 482-1131.

SUPPLEMENTARY INFORMATION:

Background

On December 12, 2003, the Department published an antidumping duty order on certain malleable iron pipe fittings from the People's Republic of China. See Antidumping Duty Order: Certain Malleable Iron Pipe Fittings From the People's Republic of China, 68 FR 69376 (December 12, 2003).

On December 1, 2005, the Department published in the Federal Register a notice of opportunity to request an administrative review of the antidumping duty order covering certain malleable iron pipe fittings from the People's Republic of China. See Antidumping or Countervailing Duty Order, Finding, or Suspended Investigation: Opportunity to Request Administrative Review, 70 FR 72109 (December 1, 2005). On December 23, 2005, the Department received a timely request from LDR Industries, Inc. and Beijing Sai Lin Ke Hardware Co., Ltd. for an administrative review of the antidumping duty order on certain malleable iron pipe fittings from the People's Republic of China with respect to Beijing Sai Lin Ke Hardware Co., Ltd. On February 1, 2006, in accordance with section 751(a) of the Tariff Act of 1930, as amended (the Act), the Department published a notice of initiation of the administrative review of Beijing Sai Lin Ke Hardware Co., Ltd., covering the period December 1, 2004, through November 30, 2005. Initiation of Antidumping and Countervailing Duty Administrative Reviews and Request for Revocation in Part, 71 FR 5241 (February 1, 2006).

On February 7, 2006, the Department released the antidumping duty questionnaire to Beijing Sai Lin Ke Hardware Co., Ltd. On February 13, 2006, LDR Industries, Inc. and Beijing Sai Lin Ke Hardware Co., Ltd. withdrew their request in a timely manner for an administrative review of Beijing Sai Lin Ke Hardware Co., Ltd. No other party had requested a review.

Scope of the Order

The products covered by the antidumping duty order are certain malleable iron pipe fittings, cast, other than grooved fittings, from the People's Republic of China. The merchandise is classified under item numbers 7307.19.90.30, 7307.19.90.60 and 7307.19.90.80 of the Harmonized Tariff Schedule of the United States (HTSUS). Excluded from the scope of this antidumping duty order are metal compression couplings, which are imported under HTSUS number 7307.19.90.80. A metal compression coupling consists of a coupling body, two gaskets, and two compression nuts. These products range in diameter from 1/2 inch to 2 inches and are carried only in galvanized finish. HTSUS subheadings are provided for convenience and customs purposes. The written description of the scope of this proceeding is dispositive.

Rescission of the Administrative Review

Pursuant to the Department's regulations, the Department will rescind an administrative review “if a party that requested a review withdraws the request within 90 days of the date of publication of the notice of initiation of the requested review.” See 19 CFR 351.213(d)(1). Because LDR Industries, Inc. and Beijing Sai Lin Ke Hardware Co., Ltd. withdrew their request for an administrative review on February 13, 2006, which is within the 90-day deadline, and no other party requested a review, the Department is rescinding this administrative review in accordance with 19 CFR 351.213(d)(1). The Department will issue appropriate assessment instructions to U.S. Customs and Border Protection within 15 days of publication of this notice.

Notification Regarding APOs

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

The Department is issuing and publishing this notice in accordance with section 777(i) of the Act and 19 CFR 351.213(d)(4).

Dated: March 17, 2006.
Stephen J. Claeys,
Deputy Assistant Secretary for Import Administration.

[FR Doc. E6-4151 Filed 3-21-06; 8:45 am]

BILLING CODE 3510-DS-S